DEPARTMENT OF COMMERCE

Foreign-Trade Zones Board

[S-102-2017]

Approval of Expanded Subzone Status, 5.11, Inc.; Modesto, Lathrop and Manteca, California

On June 29, 2017, the Executive Secretary of the Foreign-Trade Zones (FTZ) Board docketed an application submitted by the Port of Stockton, grantee of FTZ 231, requesting expanded subzone status subject to the existing activation limit of FTZ 231, on behalf of 5.11, Inc., in Manteca, California.

The application was processed in accordance with the FTZ Act and Regulations, including notice in the Federal Register inviting public comment (82 FR 31291, July 6, 2017). The FTZ staff examiner reviewed the application and determined that it meets the criteria for approval. Pursuant to the authority delegated to the FTZ Board Executive Secretary (15 CFR Sec. 400.36(f)), the application to expand Subzone 231B was approved on August 17, 2017, subject to the FTZ Act and the Board's regulations, including Section 400.13, and further subject to FTZ 231's 2,000-acre activation limit.

Dated: August 24, 2017.
Andrew McGilvray,
Executive Secretary.

[FR Doc. 2017-18435 Filed 8-29-17; 8:45 am]

BILLING CODE 3510-DS-P